DEPARTMENT OF COMMERCE

National Oceanic and Atmospheric Administration

50 CFR Part 679

[Docket No. 050628170-5170-01; I.D. 062105B]

RIN 0648-AR67

Groundfish Fisheries of the Exclusive Economic Zone Off the Coast of Alaska; Recordkeeping and Reporting

AGENCY: National Marine Fisheries Service (NMFS), National Oceanic and Atmospheric Administration (NOAA), Commerce.

ACTION: Proposed rule.

SUMMARY: NMFS proposes to revise Table 2 (species codes) to 50 CFR part 679 that is used in data collection, analysis, and monitoring of the Federal groundfish fisheries in the exclusive economic zone (EEZ) off the coast of Alaska. Within a database, species codes identify fish species that are landed, discarded, made into product, and transferred. This proposed action is necessary to standardize collection of species information with the State of Alaska Department of Fish and Game, increase effectiveness of rockfish management, reflect current fisheries management interest in skates, and promote better enforcement of rockfish regulations. This action is intended to meet the conservation and management requirements of the Magnuson-Stevens Fishery Conservation and Management Act (Magnuson-Stevens Act) with respect to groundfish and to further the goals and objectives of the Alaska groundfish fishery management plans.

DATES: Written comments must be received by October 3, 2005.

ADDRESSES: Send comments to Sue Salveson, Assistant Regional Administrator, Sustainable Fisheries Division, Alaska Region, NMFS, Attn: Lori Durall. Comments may be submitted by:

• Mail: P.O. Box 21668, Juneau, AK 99802.

• Hand delivery to the Federal Building: 709 West 9th Street, Room 420A, Juneau, AK.

• Fax: (907) 586 7557.

• E-mail: BSA82-0648-AS37@noaa.gov. Include in the subject line the following document identifier: Table 2 Species Code proposed rule. E-mail comments, with or without attachments, are limited to 5 megabytes.

• Webform at the Federal eRulemaking Portal: www.regulations.gov. Follow the instructions at that site for submitting comments.

Copies of the Regulatory Impact Review (RIR) prepared for this action are available from NMFS at the above address, or by calling the Alaska Region, NMFS, at (907) 586 7228.

Written comments regarding the burden-hour estimates or other aspects of the collection-of-information requirements contained in this proposed rule may be submitted to NMFS, Alaska Region, and by e-mail to DavidlRostker@omb.eop.gov, or fax to (202) 395 7285.

FOR FURTHER INFORMATION CONTACT: Patsy A. Bearden, (907) 586-7008 or patsy.bearden@noaa.gov.

SUPPLEMENTARY INFORMATION: NMFS manages the groundfish fisheries of the Gulf of Alaska (GOA) and the Bering Sea/Aleutian Islands Management Area (BSAI) in the EEZ according to the Fishery Management Plan for Groundfish of the Gulf of Alaska and the Fishery Management Plan for Groundfish of the Bering Sea and Aleutian Islands Management Area (FMPs) prepared by the North Pacific Fishery Management Council (Council) and approved by the Secretary of Commerce (Secretary) under authority of the Magnuson-Stevens Act, 16 U.S.C. 1801 et seq. The FMPs are implemented by regulations at 50 CFR part 679. General provisions governing fishing by U.S. vessels in accordance with the FMPs appear at subpart H of 50 CFR part 600.

Table 2 to Part 679 provides a list of FMP species and non-FMP species. The FMP species are those which are managed under the FMPs and which must be recorded and reported in logbooks and forms. The non-FMP species, including prohibited species, are species that are frequently caught in association with FMP species, but that are not actively managed under the FMPs. This action would support coordination between state and Federal management agencies by using the same species codes for State of Alaska Department of Fish and Game (State) and NMFS fishery catch documentation. Table 2 to part 679 would be reformatted from one table into four separate tables (Tables 2a, 2b, 2c, and 2d).

The proposed regulatory changes would have a number of fishery management and enforcement benefits. Within a database, species codes identify fish species that are landed, discarded, made into product, and transferred. The proposed rule would standardize collection of species information with the State of Alaska, facilitating Federal-State data exchange, reducing compliance costs, and reducing the potential for confusion, and resulting violations and fines. If NMFS and the State use different species codes or descriptions, fishermen or processors may record data incorrectly, possibly resulting in a ticket and/or fine, and diminishing the usefulness of the reported catch data. Moreover, the code changes will facilitate the more precise recording of catch by individual species within a species group. This would, for example facilitate management for a sustainable harvest of skates by permitting the estimates of the size of landings of individual skate species. The rockfish species code changes are needed to allow NOAA Fisheries Office for Enforcement (OLE) to perform an accurate audit on records of processors. OLE uses product transfer reports from processors to confirm that the quantity of fish, by species, reported as landings is approximately the same as the fish, by species, recorded as leaving the plant or vessel. By using group rockfish codes to describe the product, the processor's report effectively obscures the actual fish species being processed and/or transferred.

Table 2a would be entitled, “Species Codes: FMP Groundfish Species” and would contain the names and species codes of groundfish that are managed under the FMPs. Species codes in Table 2a would be indicated as those that must be recorded and reported in NMFS logbooks and forms.

Table 2b would be entitled, “Species Codes: FMP Prohibited Species” and would contain the names and species codes of species that are identified as prohibited species in the FMPs. Species codes in Table 2b would be indicated as those that must be recorded and reported in NMFS logbooks and forms.

Table 2c would be entitled, “Species Codes: FMP Forage Fish Species” and would contain the names and species codes of species that are identified as forage fish in the FMPs. Species codes in Table 2c would be indicated as species that must be recorded and reported in NMFS logbooks and forms.

Table 2d would be entitled, “Species Codes: Non-FMP Species” and would contain the names and species codes of species on which the State and NMFS have agreed for use on State fish tickets as well as NMFS logbooks and forms. These species codes may be recorded in NMFS logbooks and forms but are not required by regulations at 50 CFR part 679.

In addition, Tables 2a, 2b, 2c, and 2d would be revised by adding and revising certain species codes.

Table 2a

A species code, 702, would be added to Table 2a to describe big skate. NMFS has implemented separate management and harvest specifications for this skate species that requires a new species code for big skate (69 FR 26313, May 12, 2004). An identification guide of big skates and longnose skates is available from NMFS, Alaska Region (see ADDRESSES) or at http://www.fakr.noaa.gov/infobulletins/2003/Raja_poster.jpg.

The description “skate general,” code 700 in Table 2a, would be revised to say “Other (if longnose or big skate - use specific species code).”

The description “sharks general,” code 689 in Table 2a, would be revised to say “Other (if salmon, spiny dogfish or Pacific sleeper shark - use specific species code).”

The description “miscellaneous flatfish,” code 120, would be removed from the group codes and added to the FMP species in Table 2a as “Flatfish, miscellaneous (flatfish species without separate codes).”

The Latin name for all individual rockfish species would be added to Table 2a, at the request of fishery scientists.

Table 2b

The species name for prohibited species code 932 in Table 2b, would be changed from “Opilio tanner crab” to read “C. opilio (snow) tanner crab.”

The species name for prohibited species code 923 in Table 2b, would be changed from “Gold/brown king crab” to read “Golden king (brown).”

Table 2c

Table 2c contains a list of the FMP forage fish species, and no changes would be made to this list.

Table 2d

A species code, 112, would be added to Table 2d for the species, Pacific hake. Fishermen increasingly are reporting catch of hake in the EEZ off Alaska. This creates the need for a new species code to record the catch.

The species name for non-FMP species code 961 in Table 2d, would be changed from “Pink shrimp” to read “Northern (pink).”

Regulatory text

In § 679.2, the definition for “Forage fish” would be revised by removing “Table 2” and adding in its place “Table 2c.”

In § 679.2, paragraph (1) of the definition for “Groundfish” would be revised by removing “Table 2” and adding in its place “Table 2a.”

In § 679.2, the definition for “Prohibited species” would be revised by adding a reference to “Table 2b.”

In § 679.5, titles and text of paragraphs (a)(1)(ii)(A), (B), and (C) would be revised by adding “forage fish” and by adding references to Tables 2a, 2b, and 2c.

In § 679.5, paragraph (m)(3)(v) would be revised by removing reference to group codes 144, 168, 169, or 171.

In § 679.5, paragraph (n)(2)(iv)(D) would be revised by removing “Table 2” and adding in its place “Table 2b.”

In § 679.20, paragraph (i)(1) would be revised by removing “see § 679.2” and adding in its place “See Table 2c to this part.”

In § 679.21, paragraph (b)(1) would be revised by removing “see § 679.2” and adding in its place “see § 679.2 and Table 2b to this part.”

Other changes

The following rockfish group codes would be removed from Table 2 to part 679 and are not carried over into any of the proposed tables: 144, slope rockfish; 168, demersal shelf rockfish; 169, pelagic shelf rockfish; and 171, shortraker/rougheye rockfish. Rockfish group codes would not be accepted for purposes of reporting rockfish, as Recordkeeping and Reporting (R&R) regulations require that individual species be identified with specific species codes. Removal of these group codes does not alter the use of the terms, “slope rockfish,” “demersal shelf rockfish,” “pelagic shelf rockfish,” or “shortraker/rougheye rockfish” in Tables 10 and 11 to 50 CFR part 679. These terms are still valid for calculation of maximum retainable percentages for basis species.

This action may require a few participants to learn to identify individual species of rockfish. An identification guide for rockfish of the northeastern Pacific Ocean is available from NMFS, Alaska Region (see ADDRESSES) or at: http://www.afsc.noaa.gov/race/media/publications/archives/pubs2000/techmemo117.pdf.

Table 2 to 50 CFR part 679 would be reformatted from one table into four separate tables. In addition, the description of some species codes would be revised, two species codes would be added, and rockfish group species codes would be removed. The individual rockfish species codes that are included in rockfish group codes that would be removed are described below.

Code 144, slope rockfish, consisting of the following individual rockfish species: Aurora (185), Blackgill (177), Bocaccio (137), Chilipepper (178), Darkblotched (159), Greenstriped (135), Harlequin (176), Pygmy (179), Redbanded (153), Redstripe (158), Sharpchin (166), Shortbelly (181), Silvergray (157), Splitnose (182), Stripetail (183), Vermillion (184), and Yellowmouth (175).

Code 168, demersal shelf rockfish, consisting of the following individual rockfish species: Canary (146), China (149), Copper (138), Quillback (147), Rosethorn (150), Tiger (148), and Yelloweye (145).

Code 169, pelagic shelf rockfish, consisting of the following individual rockfish species: Dusky (154), Yellowtail (155), and Widow (156).

Code 171, shortraker/rougheye rockfish, consisting of the following individual rockfish species: Shortraker (152) and Rougheye (151).

Classification

NMFS has determined that the rule is consistent with the Magnuson-Stevens Act and other applicable laws.

This proposed rule has been determined to be not significant for purposes of Executive Order 12866.

The Chief Counsel for Regulation of the Department of Commerce certified to the Chief Counsel for Advocacy of the Small Business Administration that this proposed rule, if adopted, would not have a significant economic impact on a substantial number of small entities. The proposed rule would standardize collection of species information with the State, increase effectiveness of rockfish management; reflect current fisheries management of skates; and promote better enforcement of rockfish regulations. While this action may affect a substantial number of small entities, it does not impose a significant burden on small entities.

Any operation that harvests groundfish in Alaska may find itself subject to this regulation. This may include 801 fishing operations (including catcher/processors) in the Gulf of Alaska (GOA), and 283 in the Bering Sea and Aleutian Islands Management Area (BSAI).¹ In addition, it may include the six Community Development Quota groups that operate in the BSAI.Similarly, this action also directly regulates shoreside processors and shoreside floating processors that process groundfish. The NMFS, Alaska Region Catch Accounting System indicates that 4 motherships, and 65 shoreside processors (including floating shoreside processors) processed groundfish in 2003. All could be affected by this action; however, it is not possible to determine the number of small entities among these processors. Available information does not clearly identify numbers of employees at all plants, nor does it clearly indicate ownership affiliations in all cases. As noted below, the impacts of this action on entities are not significant. Therefore, the analysis is not affected if all ambiguous cases, where the size of an entity is unknown, are resolved by assuming that entities are small.

¹ These are estimates of all small fishing entities (catcher vessels and catcher-processors) operating in the GOA and BSAI in 2002. These estimates are based on estimates of Alaskan groundfish harvests. They do not take account of harvests of other species in Alaska or elsewhere; moreover they do not take account of affiliations between firms. For these reasons, they may overstate the numbers of small entities in the BSAI and GOA. They include 131 vessels fishing with pots in the GOA and 64 fishing with pots in the BSAI. Fishermen fishing with pot gear may not harvest many skates or hake. These estimates are taken from Table 26.2 of the 2003 Economic SAFE document. This is Appendix D to the EA/RIR/IRFA for the 2003 harvest specifications. Accessed at http://www.fakr.noaa.gov/npfmc/safes/2002/Economic.pdf on October 17, 2003.

These data also allow an analysis of the individual vessels and processing plants that use rockfish group codes and have revealed that 4 catcher/processors and 2 catcher/processors operating as motherships used rockfish group codes in either 2002 or 2003. It is not possible to determine whether these vessels are small entities; however, the NMFS Alaska Region Catch Accounting System indicates that 85 catcher/processors and/or catcher/processors operating as motherships processed groundfish in the EEZ off Alaska in 2003. Thus, 6 of the 85 operations that harvested and processed groundfish actually used the group codes and will be required to change their practice. In addition, 12 shoreside processing plants used rockfish group codes in either 2002 or 2003. Of these, available data on American Fisheries Act affiliations, corporate ownership, and employment statistics² suggest that 7 are likely large entities and potentially 5 are small entities. Thus, 12 of the 65 shoreside processors that processed groundfish actually used rockfish group codes and potentially 5 of those are small entities.

² Compiled from Directory of Seafood Processors, Pacific Fishing Magazine, January 2004; Alaska Department of Labor processing plant monthly employment counts; and American Fisheries Act entities information from NMFS, Alaska Region Sustainable Fisheries Division.

This action does not impose a significant economic impact on small entities. Vessel operators and processors would be required to report hake, big skates, sharks, and rockfish species, separately, on landing and processing records. They are not required to report separately now; however, they must currently record all these fish under one of the existing codes. As a result, the additional reporting burden is de minimis. Additionally, the ADF&G implemented a requirement that fishermen identify these species separately on ADF&G landings records, starting in 2004. Therefore, fishermen that delivered their harvests inshore or onshore for processing were under an obligation to report these species separately starting in 2004. Most of the fishing operations that fall under these new ADF&G reporting rules are believed to be small entities, as are many of the processors to whom they will be delivering. As a result, an amendment to Federal reporting to make it consistent with State requirements would be less costly than doing nothing. Should Federal reporting requirements not be changed to coincide with these ADF&G rule changes, additional complexity, cost, and potential confusion leading to violations and fines may result. For both reasons, NMFS believes the economic impact of this rule, if adopted, would be negligible.

The reformatting of Table 2, inclusive of definition changes and rockfish Latin name inclusion, will make it easier to refer to the different classes of fish species from other parts of the regulations, because NMFS would be able to specifically cite those species intended. This reformatting is not expected to affect the fishing industry directly. The addition of Pacific hake, skates, and sharks species code may increase the reporting burden slightly. However, the cost may be offset to some extent by the easing of the reporting risk, due to clarification of procedures for reporting catch of these species.

The elimination of rockfish group codes would have de minimis financial costs for the fishing industry. The affected participants would be those processors who occasionally use rockfish group codes, plus one processor that will need to change its production operation in order to correctly identify transfer of processed rockfish by species. The time burden for collecting data (i.e., entering of species codes in the daily cumulative production logbooks and daily fishing logbooks) may increase very slightly, although the older codes will be replaced by the proposed codes. Overall, the industry did not use the group codes regularly during 2002 and 2003, and the numbers of processors that used rockfish group codes are small relative to the number of processors who process rockfish. Based on 2003 data, it appears that shoreside processors voluntarily identified rockfish landings by individual species code 99 percent of the time, and used group codes less about 1 percent of the time. In 2003 catcher processors and motherships only used rockfish group codes on about 5% of weekly processor reports.

Finally, the proposed action will assure consistency with current ADF&G reporting rules and, thus, reduce the reporting burden, uncertainty, and confusion that would arise from having two conflicting sets of reporting codes. Because small entities are more likely to fish in the EEZ and land their catch in Alaska State waters or onshore, this burden would fall disproportionately on them. The proposed action removes this potentiality.

This proposed rule contains collection-of-information requirements that are subject to review and approval by OMB under the Paperwork Reduction Act (PRA) and which have been approved by OMB. The collections are listed below by OMB Control Number.

OMB Control Number 0648-0213. Total public reporting burden for this collection is 41,219 hours. Species codes are recorded and reported in this collection.

OMB Control Number 0648-0401. Total public reporting burden for this collection is 1,024 hours. Species codes are recorded and reported in this collection.

Send comments regarding this burden estimate, or any other aspect of this data collection, including suggestions for reducing the burden, to NMFS (see ADDRESSEES) and by e-mail to David_Rostker@omb.eop.gov, or fax to (202) 395-7285. Notwithstanding any other provision of the law, no person is required to respond to, nor shall any person be subject to a penalty for failure to comply with, a collection of information subject to the requirements of the PRA, unless that collection of information displays a currently valid OMB Control Number.

This proposed rule does not duplicate, overlap, or conflict with other Federal regulations.

List of Subjects in 50 CFR Part 679

Alaska, Fisheries, Recordkeeping and reporting requirements.

Dated: August 26, 2005.
James W. Balsiger,
Acting Deputy Assistant Administrator for Regulatory Programs, National Marine Fisheries Service.

For reasons set out in the preamble, 50 CFR part 679 is proposed to be amended as follows:

PART 679—FISHERIES OF THE EXCLUSIVE ECONOMIC ZONE OFF ALASKA

1. The authority citation for part 679 continues to read as follows:

Authority: 16 U.S.C. 773 et seq.; 1540(f); 1801 et seq.; 1851 note; 3631 et seq.

§§ 679.2, 679.5, 679.20, and 679.21 [Amended]

2. In the table below, for each of the paragraphs shown in the “Location” column, remove the phrase indicated in the “Remove” column and replace it with the phrase indicated in the “Add” column for the number of times indicated in the “Frequency” column.

Location | Remove | Add | Frequency
§ 679.2 definition for “Forage fish” | (see Table 2 to this part) | (see Table 2c to this part and § 679.20(i)) | 1
§ 679.2 definition for paragraph (1) “Groundfish” | Table 2 | Table 2a | 1
§ 679.2 definition for “Groundfish product or fish product” | Tables 1 and 2 to this part, excluding the prohibited species listed in Table 2 to this part | Tables 1, 2a, 2c, and 2d to this part | 1
§ 679.2 definition for “Prohibited species” | Tanner crab | Tanner crab (see Table 2b to this part) | 1
§ 679.5(a)(1)(ii)(A), (B), and (C) paragraph heading | Groundfish and prohibited species | Groundfish, prohibited species, and forage fish | 1
§ 679.5(a)(1)(ii)(A), (B), and (C) | all groundfish and prohibited species | all groundfish (see Table 2a to this part), prohibited species (see Table 2b to this part), and forage fish (see Table 2c to this part) | 1
§ 679.5(m)(3)(v) | code for each species from Table 2 to this part, except species codes 120, 144, 168, 169, or 171; | code for each species from Tables 2a though 2d to this part, except species code 120 | 1
§ 679.5(n)(2)(iv)(D) | Table 2 | Table 2b | 1
§ 679.20(i)(1) | See § 679.2 | See Table 2c to this part | 1
§ 679.21(b)(1) | See § 679.2 | See § 679.2 and Table 2b to this part | 1

Table 2 to Part 679 [Amended]

3. Table 2 to Part 679 Species Codes for FMP Species and non-FMP Species is removed and Tables 2a, 2b, 2c, and 2d to Part 679 are added as follows:

Table 2a to Part 679—Species Codes: FMP Groundfish
Species Description | Code
Atka mackerel (greenling) | 193
Flatfish, miscellaneous (flatfish species without separate codes) | 120
FLOUNDER |
Alaska plaice | 133
Arrowtooth and/or Kamchatka | 121
Starry | 129
Octopus | 870
Pacific cod | 110
Pollock | 270
ROCKFISH |
Aurora (S. aurora) | 185
Black (BSAI) (S. melanops) | 142
Blackgill (S. melanostomus) | 177
Blue (BSAI) (S. mystinus) | 167
Bocaccio (S. paucispinis) | 137
Canary (S. pinniger) | 146
Chilipepper (S. goodei) | 178
China (S. nebulosus) | 149
Copper (S. caurinus) | 138
Darkblotched (S. crameri) | 159
Dusky (S. ciliatus) | 154
Greenstriped (S. elongatus) | 135
Harlequin (S. variegatus) | 176
Northern (S. polyspinis) | 136
Pacific ocean perch (S. alutus) | 141
Pygmy (S. wilsoni) | 179
Quillback (S. maliger) | 147
Redbanded (S. babcocki) | 153
Redstripe (S. proriger) | 158
Rosethorn (S. helvomaculatus) | 150
Rougheye (S. aleutianus) | 151
Sharpchin (S. zacentrus) | 166
Shortbelly (S. jordani) | 181
Shortraker (S. borealis) | 152
Silvergray (S. brevispinis) | 157
Splitnose (S. diploproa) | 182
Stripetail (S. saxicola) | 183
Thornyhead (all Sebastolobus species) | 143
Tiger (S. nigrocinctus) | 148
Vermilion (S. miniatus) | 184
Widow (S. entomelas) | 156
Yelloweye (S. ruberrimus) | 145
Yellowmouth (S. reedi) | 175
Yellowtail (S. flavidus) | 155
Sablefish (blackcod) | 710
Sculpins | 160
SHARKS |
Other (if salmon, spiny dogfish or Pacific sleeper shark - use specific species code) | 689
Pacific sleeper | 692
Salmon | 690
Spiny dogfish | 691
SKATES |
Big | 702
Longnose | 701
Other (if longnose or big skate - use specific species code) | 700
SOLE |
Butter | 126
Dover | 124
English | 128
Flathead | 122
Petrale | 131
Rex | 125
Rock | 123
Sand | 132
Yellowfin | 127
Squid | 875
Turbot, Greenland | 134

Table 2b to Part 679—Species Code: FMP Prohibited Species
Species Description | Code
CRAB |
King, blue | 922
King, golden (brown) | 923
King, red | 921
King, scarlet | 924
Tanner, Bairdi (C. bairdi) | 931
Tanner, grooved | 933
Tanner, snow (C. opilio) | 932
Tanner, triangle | 934
Pacific halibut | 200
Pacific herring (family Clupeidae) | 235
SALMON |
Chinook | 410
Chum | 450
Coho | 430
Pink | 440
Sockeye | 420
Steelhead trout | 540

Table 2c to Part 679—Species Codes: FMP Forage Fish Species
(all species of the following families)
Species Description | Code
Bristlemouths, lightfishes, and anglemouths (family Gonostomatidae) | 209
Capelin smelt (family Osmeridae) | 516
Deep-sea smelts (family Bathylagidae) | 773
Eulachon smelt (family Osmeridae) | 511
Gunnels (family Pholidae) | 207
Krill (order Euphausiacea) | 800
Laternfishes (family Myctophidae) | 772
Pacific sandfish (family Trichodontidae) | 206
Pacific sand lance (family Ammodytidae) | 774
Pricklebacks, war-bonnets, eelblennys, cockscombs and shannys (family Stichaeidae) | 208
Surf smelt (family Osmeridae) | 515

Table 2d to Part 679—Species Codes—Non-FMP Species
Species Description | Code
Abalone | 860
Albacore | 720
Arctic char, anadromous | 521
CLAMS |
Butter | 810
Cockle | 820
Eastern softshell | 842
Geoduck | 815
Little-neck | 840
Razor | 830
Surf | 812
Coral | 899
CRAB |
Box | 900
Dungeness | 910
Korean horsehair | 940
Multispina (Paralomis multispina) | 951
Verrilli (Paralomis verillii) | 953
Dolly varden, anadromous | 531
Eels or eel-like fish | 210
Giant grenadier | 214
GREENLING |
Kelp | 194
Rock | 191
Whitespot | 192
Grenadier (rattail) | 213
Jellyfish | 625
Lamprey, Pacific | 600
Lingcod | 130
Lumpsucker | 216
Mussel, blue | 855
Pacific flatnose | 260
Pacific hagfish | 212
Pacific hake | 112
Pacific saury | 220
Pacific tomcod | 250
Prowfish | 215
Rockfish, black (GOA) | 142
Rockfish, blue (GOA) | 167
Sardine, Pacific (pilchard) | 170
Scallop, weathervane | 850
Scallop, pink (or calico) | 851
Sea cucumber | 895
Sea urchin, green | 893
Sea urchin, red | 892
Shad | 180
SHRIMP |
Coonstripe | 964
Humpy | 963
Northern (pink) | 961
Sidestripe | 962
Spot | 965
Skilfish | 715
Smelt, surf | 515
Snails | 890
Sturgeon, general | 680

[FR Doc. 05-17454 Filed 8-31-05; 8:45 am]

BILLING CODE 3510-22-S